DEPARTMENT OF COMMERCE

National Oceanic and Atmospheric Administration

[I.D. 092606E]

Pacific Fishery Management Council; Public Meeting

AGENCY: National Marine Fisheries Service (NMFS), National Oceanic and Atmospheric Administration (NOAA), Commerce.

ACTION: Notice of a public meeting.

SUMMARY: The Pacific Fishery Management Council's (Council) Groundfish Allocation Committee (GAC) will hold a working meeting, which is open to the public.

DATES: The GAC meeting will be held Wednesday, October 18, 2006, from 8:30 a.m. until business for the day is completed. The GAC will reconvene Thursday, October 19, 2006, at 8:30 a.m. until their business is completed.

ADDRESSES: The GAC meeting will be held at the Red Lion Hotel on the River- Jantzen Beach, Glisan Room, 909 N. Hayden Island Drive, Portland, OR 97217; telephone: (503) 283-4466.

Council address: Pacific Fishery Management Council, 7700 NE Ambassador Place, Suite 101, Portland, OR 97220-1384.

FOR FURTHER INFORMATION CONTACT: Mr. John DeVore, Groundfish Management Coordinator; telephone: (503) 820-2280.

SUPPLEMENTARY INFORMATION: The purpose of the GAC meeting is to develop draft alternatives for allocating Pacific Coast groundfish stocks and stock complexes to the various West Coast fishery sectors for analysis. No management actions will be decided by the GAC. The GAC's role will be development of recommendations and alternatives for analysis for consideration by the Council at its November 2006 meeting in Del Mar, CA.

Although non-emergency issues not contained in the meeting agenda may come before the GAC for discussion, those issues may not be the subject of formal GAC action during this meeting. GAC action will be restricted to those issues specifically listed in this notice and any issues arising after publication of this notice that require emergency action under Section 305(c) of the Magnuson-Stevens Fishery Conservation and Management Act, provided the public has been notified of the GAC's intent to take final action to address the emergency.

Special Accommodations

This meeting is physically accessible to people with disabilities. Requests for sign language interpretation or other auxiliary aids should be directed to Ms. Carolyn Porter at (503) 820-2280 at least 5 days prior to the meeting date.

Dated: September 26, 2006.
Tracey L. Thompson,
Acting Director, Office of Sustainable Fisheries, National Marine Fisheries Service.

[FR Doc. E6-16140 Filed 9-29-06; 8:45 am]

BILLING CODE 3510-22-S